DEPARTMENT OF DEFENSE

Department of the Navy

Notice of Public Hearing of the Draft Environmental Impact Statement (EIS) on Basewide Utility Infrastructure at Marine Corps Base Camp Pendleton, CA

AGENCY: Department of the Navy, DoD.

ACTION: Notice.

SUMMARY: Pursuant to Section (102)(2)(c) of the National Environmental Policy Act of 1969 (NEPA) (42 United States Code [U.S.C.] 4231); the Council on Environmental Quality (CEQ) regulations for implementing the procedural provisions of NEPA (Title 40 Code of Federal Regulations (CFR) Parts 1500-1508); Department of the Navy Procedures for Implementing NEPA (32 CFR Part 775); and Marine Corps NEPA directives (Marine Corps Order P5090.2A), the Marine Corps has prepared and filed with the U.S. Environmental Protection Agency a Draft Environmental Impact Statement (EIS) that evaluates the potential environmental consequences that may result from implementing the Basewide Utility Infrastructure project at Camp Pendleton.

The project would expand, update, repair, and improve, sewer, water, electrical, communication, roadway, and natural gas infrastructure in support of current and future expanded training operations on Camp Pendleton in support of the installation's mission, which is to “operate an amphibious training base that promotes the combat readiness of operating forces by providing facilities, services, and support responsive to the needs of Marines, Sailors, and their families.” A Notice of Intent to prepare this EIS was published in the Federal Register on November 12, 2008 (73 FR 66879).

The Marine Corps will conduct a public meeting to receive oral and written comments on the Draft EIS. Federal, State, and local agencies and interested individuals are invited to be present or represented at the public meeting. This notice announces the date and location of the public meeting, and supplementary information about the environmental planning effort is also included in this notice.

DATES: The public meeting will be conducted as an informational open house. Individuals will be allowed to review the information presented in the Draft EIS and Marine Corps and Navy representatives will be available to clarify information related to the Draft EIS. The meeting will be held from 6 p.m. to 8 p.m. in the Ole Hanson Fireside Room at the San Clemente Community Center, 100 North Calle Seville, San Clemente, California 92672 on October 27, 2009.

The Draft EIS was distributed to Federal, State, and local agencies, elected officials, and other interested parties and individuals on September 25, 2009. The public comment period will end on November 9, 2009. The document can be viewed online and downloaded from http://www.marines.mil/units/hqmc/logistics/Pages/LFL/LFL-1/EnvironmentalPlanningInProgress.aspx. Copies of the Draft EIS are available for public review at the following public libraries: Oceanside Civic Center Library, 330 North Coast Highway, Oceanside, CA 92054; San Clemente Library, 242 Avenida del Mar, San Clemente, CA 92672; and Fallbrook Branch, San Diego County Public Library, Fallbrook, CA 92028. A hard copy of the Draft EIS will be made available upon written request to Mr. Jesse Martinez, NAVFAC Southwest, 1220 Pacific Highway, San Diego, CA 92132-5190.

Comments: Attendees will be able to submit written comments at the public meeting; a stenographer will be present to transcribe oral comments, but to ensure the accuracy of the record, all statements should be submitted in writing. Equal weight will be given to oral and written statements. Comments may be mailed to Mr. Jesse Martinez at NAVFAC Southwest, 1220 Pacific Highway, San Diego, CA, 92132-5190. All mailed or e-mailed comments must be postmarked or electronically dated on or before November 9, 2009, to be sure they become part of the public record. All statements, oral transcription and written, submitted during the public review period will become part of the public record on the Draft EIS and will be responded to in the Final EIS.

FOR FURTHER INFORMATION CONTACT: Mr. Jesse Martinez, NAVFAC Southwest, 1220 Pacific Highway, San Diego, CA 92132-5190; jesse.w.martinez1@navy.mil; fax: 619.532.2060; telephone: 619.532.3844. Please submit requests for special assistance, sign language interpretation for the hearing impaired, or other auxiliary aids at the public meeting to Mr. Martinez.

SUPPLEMENTARY INFORMATION: The proposed action and subject of the Draft EIS is the construction and operation, including maintenance, of utility infrastructure upgrades, expansions, and improvements to water, wastewater, electrical, communication, and natural gas systems within MCBCP. Full environmental analyses for a Preferred Alternative (Alternative 1), two other action alternatives (Alternatives 2 and 3), and a No Action Alternative are presented in the Draft EIS.

Each action alternative, including the Preferred Alternative, includes six construction projects to construct and operate six utility infrastructure projects entirely within Marine Corps Base Camp Pendleton (MCBCP) funded by Military Construction (MILCON) program appropriation. Each alternative would include upgrades to the northern wastewater system, including a Northern Regional Tertiary Treatment Plant (MILCON P-1043/P-1046); upgrades to the Base electrical systems and associated facilities (MILCONs P-1048 and P-1094); upgrades to the Basewide communication systems (MILCON P-1093); upgrades to the Basewide natural gas systems (P-1099); and water, wastewater, and road improvements to serve Range 130 and Range 131.

Many infrastructure elements at MCBCP date back to the 1940s and 1950s and are now outdated, undersized, and deteriorating. Because of this worsening condition, maintenance costs are high and will continue to mount. The situation will be further exacerbated by future growth of the Base. A lack of adequate infrastructure is currently impeding, and will continue to impede, the mission of the Base without significant upgrades. The purpose of the three action alternatives is to provide new or upgraded, reliable, and compliant utility systems to support military training and operations throughout MCBCP and quality of life services; and to provide system redundancy that would enable the delivery of utility services during periods of scheduled, unscheduled, and emergency outages.

Each action alternative contains six projects intended to accomplish this purpose. Some of the projects have more than one means of doing so, referred to as “Options” for that MILCON. Alternatives 1, 2, and 3 consist of different suites of those Options. Some Options are common to all three action alternatives. The alternatives do not present all possible combinations of Options, but it is intended that the decision maker could choose to approve any of the alternatives or a combination of Options different from the three action alternatives, since the EIS fully assesses the environmental consequences of each Option.

All of the three action alternatives would achieve the purpose of and fulfill the need for the proposed action. Alternative 1, the Preferred Alternative, contains the Options for each project that are most desirable from the standpoint of cost, engineering efficiency, and environmental consequences. Options in Alternatives 2 and 3 that differ from Alternative 1 are feasible but less desirable.

The No Action Alternative would not meet the purpose of and need for the proposed action. The current inadequacies of the infrastructure systems would persist and increase with age. The growth in personnel and training programs at MCBCP that is already planned and has started would be impeded and possibly curtailed.

Environmental resources addressed in the Draft EIS are geology and soils, water resources, biological resources, cultural resources, land use, visual resources, socioeconomics and environmental justice, traffic, air quality, noise, public health and safety, infrastructure and utilities, and coastal zone management. The Draft EIS also examines cumulative impacts from past, present, and reasonably foreseeable future projects on and near MCBCP.

Environmental consequences of the proposed action would principally arise from construction; impacts from operation and maintenance of the infrastructure systems would be relatively minor. The Draft EIS enumerates an array of conservation and construction measures and features of project design and planning that would avoid and minimize most potential impacts. The proposed action would fully comply with regulatory requirements for the protection of environmental resources. Mitigation for potential impacts to biological resources would be accomplished at accepted restoration or enhancement ratios, and mitigation for potential impacts to Federally-listed threatened or endangered species would be developed in consultation with the U.S. Fish and Wildlife Service. Mitigation for potential impacts to cultural resources would comply with a Programmatic Agreement with the State Historic Preservation Office and Native Americans.

Schedule: A Notice of Availability will be published in the Federal Register and local print media to start the 45-day public comment period for the Draft EIS. The Marine Corps will consider and respond to all written comments, including e-mail, in preparing the Final EIS. The Department of the Navy intends to issue the Final EIS in April 2010, at which time an NOA will be published in the Federal Register and local print media. A Record of Decision is expected in June 2010.

Dated: September 17, 2009.
A. M. Vallandingham,
Lieutenant Commander, Judge Advocate General's Corps, U.S. Navy, Federal Register Liaison Officer.

[FR Doc. E9-23184 Filed 9-24-09; 8:45 am]

BILLING CODE 3810-FF-P